DEPARTMENT OF THE INTERIOR

National Park Service

Notice of Inventory Completion for Native American Human Remains and Associated Funerary Objects in the Control of the Aztec Ruins National Monument, National Park Service, Aztec, NM; Correction

AGENCY: National Park Service, Interior.

ACTION: Notice; correction.

Notice is here given in accordance with the Native American Graves Protection and Repatriation Act (NAGPRA), 25 U.S.C. 3003, of the completion of an inventory of human remains and associated funerary objects in the control of the U.S. Department of the Interior, National Park Service, Aztec Ruins National Monument, Aztec, NM. These human remains and cultural items were removed from sites within and near Aztec Ruins National Monument, Aztec, NM.

This notice is published as part of the National Park Service's administrative responsibilities under NAGPRA, 25 U.S.C. 3003, (d)(3). The determinations in this notice are the sole responsibility of the Superintendent, Aztec Ruins National Monument.

This notice corrects the number of human remains reported in a notice of inventory completion published in the Federal Register on October 2, 1998. A recent analysis of items from a portion of the Aztec Ruins National Monument collection identified a single bone as being human. The remains had been identified as non-human during previous examination. The human remains are culturally affiliated with the same tribes as described in the original notice.

In the Federal Register of October 2, 1998, FR Doc. 98-26418, pages 53098 - 53100, two paragraphs are inserted and one paragraph is corrected as follows:

The following two paragraphs are inserted after paragraph 12:

In 1983, human remains representing a minimum of one individual were recovered from room 221 in the West Ruin, located within park boundaries, during a legally authorized excavation in conjunction with stabilization work. No known individual was identified. No funerary objects are present.

Based on dendrochronology of the West Ruin and on cross dating of associated ceramic sherds, these human remains date to the Pueblo III period (circa A.D. 1100-1300).

Paragraph 27 is corrected by replacing the first sentence of the paragraph with the following sentence:

Based on the above-mentioned information, officials of the National Park Service have determined that, pursuant to 43 CFR 10 (d)(1), the human remains listed above represent the physical remains of 126 individuals of Native American ancestry.

Representatives of any other Indian tribe that believes itself to be culturally affiliated with these human remains should contact Dennis Carruth, Superintendent, Aztec Ruins National Monument, 84 County Road 2900, Aztec, NM 87410, telephone (505) 334-6174, before July 1, 2005. Repatriation of these human remains to the Hopi Tribe of Arizona; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico may proceed after that date if no additional claimants come forward.

Aztec Ruins National Monument is responsible for notifying the Apache Tribe of Oklahoma; Fort McDowell Yavapai Nation, Arizona (formerly the Fort McDowell Mohave-Apache Community of the Fort McDowell Indian Reservation); Fort Sill Apache Tribe of Oklahoma; Hopi Tribe of Arizona; Jicarilla Apache Nation, New Mexico; Navajo Nation, Arizona, New Mexico & Utah; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; Southern Ute Indian Tribe of the Southern Ute Reservation, Colorado; Ute Mountain Tribe of the Ute Mountain Reservation, Colorado, New Mexico & Utah; White Mountain Apache Tribe of the Fort Apache Reservation, Arizona; Yavapai-Apache Nation of the Camp Verde Indian Reservation, Arizona; and Zuni Tribe of the Zuni Reservation, New Mexico that this notice has been published.

Dated: May 20, 2005.
Paul Hoffman,
Deputy Assistant Secretary, Fish and Wildlife and Parks.

[FR Doc. 05-10802 Filed 5-31-05; 8:45 am]

BILLING CODE 4312-50-S